DEPARTMENT OF DEFENSE

Office of the Secretary

[Transmittal No. 19-0H]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0H with attached Policy Justification.

Dated: September 20, 2019.
Aaron T. Siegel,
Alternate OSD Federal Register Liaison Officer, Department of Defense.

BILLING CODE 5001-06-P

BILLING CODE 5001-06-C

Transmittal No. 19-0H

REPORT OF ENHANCEMENT OR UPGRADE OF SENSITIVITY OF TECHNOLOGY OR CAPABILITY (SEC. 36(B)(5)(C), AECA)

(i) Purchaser: Taipei Economic and Cultural Representative Office (TECRO)

(ii) Sec. 36(b)(1), AECA Transmittal No.: 16-01

Date: December 16, 2015

Military Department: Army

(iii) Description: On December 16, 2015, Congress was notified by Congressional certification transmittal number 16-01, of the possible sale under Section 36(b)(1) of the Arms Export Control Act of seven hundred sixty-nine (769) TOW 2B Aero Radio Frequency (RF) Missiles (BGM-71F-Series). This proposed sale also includes fourteen (14) Radio Frequency (RF) TOW 2B Aero (BGM-71F-Series) Fly-to-Buy Missiles for lot acceptance testing, forty-six (46) Improved Target Acquisition System (ITAS) Launchers, four (4) Improved Target Acquisition System (ITAS) launcher spares, Missile Support Equipment, Government-Furnished Equipment, Technical Manuals/Publications, Spare Parts, Tool and Test Equipment, Trainers, Training, U.S. Government Technical Support/Integrated Logistical Support, Contractor Technical Support, and other associated equipment and services. The estimated total cost was $268 million. Major Defense Equipment (MDE) constituted $237 million of this total.

This transmittal notifies the inclusion of the following MDE items: 1) an additional one thousand two hundred forty (1,240) TOW 2B Aero, Radio Frequency (RF) missiles (BGM-71F-Series); 2) an additional fourteen (14) TOW 2B Aero, Radio Frequency (RF) missiles (BGM-71F-Series) Fly-to-Buy missiles; 3) an additional fifty-eight (58) Improved Target Acquisition System (ITAS); and 4) one hundred (100) M1167A1B1 HMMWVs. Also included are missile support equipment, government-furnished equipment, technical manuals/publications, spare parts, tool and test equipment, training, U.S. Government technical support/logistical support, contractor technical support, and other related elements of logistics and program support. These inclusions will increase the MDE value by $241.2 million resulting in a new MDE cost of $478.2 million. The new total case value will be $567.2 million.

(iv) Significance: This notification will allow the recipient to improve its security and defensive capability.

(v) Justification: This proposed sale serves U.S. national, economic, and security interests by supporting the recipient's continuing efforts to modernize its armed forces and enhance its defensive capability. The proposed sale will help improve the security of the recipient and assist in maintaining political stability, military balance, and economic progress in the region.

(vi) Sensitivity of Technology: The statement contained in the original AECA 36(b)(1) transmittal applies to the MDE items reported here.

(vii) Date Report Delivered to Congress: July 8, 2019

[FR Doc. 2019-20823 Filed 9-24-19; 8:45 am]

BILLING CODE 5001-06-P